DEPARTMENT OF COMMERCE

United States Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Patent Prosecution Highway (PPH) Program.

Form Number(s): PTO/SB/20AT/AU/BR/CA/CN/DE/DK, PTO/SB/20EP/ES/FI/HU/IL/IS/JP/KR/MX/NO/RU/SG/TW/UK, and PTO/SB/20PCT-AT/PCT-AU/PCT-CA/PCT-CN/PCT-EP/PCT-ES/PCT-FI/PCT-JP/PCT-KR/PCT-NPI/PCT-RU/PCT-SE/PCT-US.

Agency Approval Number: 0651-0058.

Type of Request: Revision of a currently approved collection.

Burden: 7,800 hours annually.

Number of Respondents: 3,900 responses per year.

Avg. Hours per Response: The USPTO estimates that it will take the public approximately two hours to gather the necessary information, prepare the appropriate form, and submit a completed request to the USPTO.

Needs and Uses: Patent Prosecution Highway (PPH) pilot programs have been established between the USPTO and the intellectual property offices of several other countries. Some of the pilot programs, such as those with Japan, Canada, and South Korea, have become permanent.

The PPH program allows applicants whose claims are determined to be patentable in the office of first filing to have the corresponding application that is filed in the office of second filing be advanced out of turn for examination. At the same time, the PPH program allows the office of second filing to exploit the search and examination results of the office of first filing, which increases examination efficiency and improves patent quality. The PCT-PPH pilot program is an expansion to the PPH program based on the framework of the Patent Cooperation Treaty (PCT). Information collected for the PCT is approved under OMB control number 0651-0021.

This information collection is necessary so that patent applicants may participate in the PPH or PCT-PPH programs between the USPTO and other patent offices in order to receive the benefits of more efficient examination. The forms in this collection allow participants to file a request in a corresponding U.S. application and petition to make the U.S. application special under the PPH or PCT-PPH program.

The USPTO is proposing to add two forms to this collection (PTO/SB/20NO and PTO/SB/20IS) for new participants in the PPH pilot program. The USPTO launched the PPH pilot program with the Norwegian Industrial Property Office (NIPO) on November 1, 2011, and the Icelandic Patent Office (IPO) on December 1, 2011.

Affected Public: Individuals or households; businesses or other for-profits; and not-for-profit institutions.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0058 copy request” in the subject line of the message.

• Mail: Susan K. Fawcett, Records Officer, Office of the Chief Information Officer, United States Patent and Trademark Office, P.O. Box 1450, Alexandria, VA 22313-1450.

Written comments and recommendations for the proposed information collection should be sent on or before January 9, 2012 to Nicholas A. Fraser, OMB Desk Officer, via email to Nicholas_A._Fraser@omb.eop.gov, or by fax to (202) 395-5167, marked to the attention of Nicholas A. Fraser.

Dated: December 5, 2011.
Susan K. Fawcett,
Records Officer, USPTO, Office of the Chief Information Officer.

[FR Doc. 2011-31569 Filed 12-8-11; 8:45 am]

BILLING CODE 3510-16-P